DEPARTMENT OF JUSTICE

[OMB Number 1110-0058]

Agency Information Collection Activities; Proposed eCollection eComments Requested; Title—National Incident-Based Reporting System (NIBRS)

AGENCY: Criminal Justice Information Services (CJIS) Division, Federal Bureau of Investigation, Department of Justice.

ACTION: 30-Day notice.

SUMMARY: The Criminal Justice Information Services (CJIS) Division, FBI, DOJ, will be submitting the following information collection request to the Office of Management and Budget (OMB) for review and approval in accordance with the Paperwork Reduction Act of 1995.

DATES: Comments are encouraged and will be accepted for 30 days until March 20, 2026.

FOR FURTHER INFORMATION CONTACT: If you have comments, especially on the estimated public burden or associated response time, suggestions, or need a copy of the proposed information collection instrument with instructions or additional information, please contact: Chad M. Garman, Acting Unit Chief, Crime and Law Enforcement Statistics Unit, FBI, CJIS Division, Module D-2, 1000 Custer Hollow Road, Clarksburg, West Virginia 26306, 771-230-3959, or at ucr@fbi.gov.

SUPPLEMENTARY INFORMATION: The proposed information collection was previously published in the Federal Register on December 12, 2025, 90 FR 57780, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology (e.g., permitting electronic submission of responses).

Written comments and recommendations for this information collection should be submitted within 30 days of the publication of this notice on the following website www.reginfo.gov/public/do/PRAMain. Find this particular information collection by selecting “Currently under 30-day Review—Open for Public Comments” or by using the search function and entering either the title of the information collection or the OMB Control Number [1110-0058]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to OMB for existing ICRs receive a month-to-month extension while they undergo review.

Abstract: Under the Uniform Federal Crime Reporting Act of 1988, 34 U.S.C. 41303; the DOJ's authority regarding the acquisition, preservation, and exchange of identification records and information, 28 U.S.C. 534; the USA Patriot Improvement and Reauthorization Act of 2005, Public Law 109-177, 120 Stat. 193; the William Wilberforce Trafficking Victims Protection Reauthorization Act of 2008, 34 U.S.C. 41309; and the Hate Crimes Statistics Act, 34 U.S.C. 41305, this collection requests incident data from federal, state, local, tribal, and territorial LEAs in order for the FBI's Uniform Crime Reporting (UCR) Program to serve as the national clearinghouse for the collection and dissemination of incident data. The traditional Summary Reporting System (SRS), managed by the FBI's UCR Program since the 1930s, includes 10 crimes and employs the Hierarchy Rule (i.e., in a multiple-offense incident, only the most serious crime is reported). In contrast, NIBRS includes 28 offense categories made up of 71 specific crimes (i.e., Group A offenses) and allows LEAs to report up to 10 of those offenses associated with an incident. For each of these offenses, LEAs collect administrative, offense, property, victim, offender, and arrestee information. Arrest data only are reported for an additional 10 Group B offenses. The level of detail is the most significant difference between NIBRS and SRS and the NIBRS data submitted to the FBI's UCR Program are generated as a byproduct of a LEA's records management system.

Overview of This Information Collection

1. Type of Information Collection: Extension of a previously approved collection.

2. The Title of the Form/Collection: National Incident-Based Reporting System (NIBRS).

3. The agency form number, if any, and the applicable component of the department sponsoring the collection: The form number is 1110-0058. The applicable component within DOJ is the CJIS Division, FBI.

4. Affected public who will be asked or required to respond, as well as a brief abstract: Primary: Federal, state, local, tribal, and territorial law enforcement agencies (LEAs). Abstract: Under the Uniform Federal Crime Reporting Act of 1988, 34 U.S.C. 41303; the DOJ's authority regarding the acquisition, preservation, and exchange of identification records and information, 28 U.S.C. 534; the USA Patriot Improvement and Reauthorization Act of 2005, Public Law 109-177, 120 Stat. 193; the William Wilberforce Trafficking Victims Protection Reauthorization Act of 2008, 34 U.S.C. 41309; and the Hate Crimes Statistics Act, 34 U.S.C. 41305, this collection requests incident data from federal, state, local, tribal, and territorial LEAs in order for the FBI's Uniform Crime Reporting (UCR) Program to serve as the national clearinghouse for the collection and dissemination of incident data. The traditional Summary Reporting System (SRS), managed by the FBI's UCR Program since the 1930s, includes 10 crimes and employs the Hierarchy Rule (i.e., in a multiple-offense incident, only the most serious crime is reported). In contrast, NIBRS includes 28 offense categories made up of 71 specific crimes (i.e., Group A offenses) and allows LEAs to report up to 10 of those offenses associated with an incident. For each of these offenses, LEAs collect administrative, offense, property, victim, offender, and arrestee information. Arrest data only are reported for an additional 10 Group B offenses. The level of detail is the most significant difference between NIBRS and SRS and the NIBRS data submitted to the FBI's UCR Program are generated as a byproduct of a LEA's records management system.

5. Obligation to Respond: The obligation to respond is mandatory for federal agencies and voluntary for non-federal agencies.

6. Total Estimated Number of Respondents: 16,788 respondents.

7. Estimated Time per Respondent: 2 hours.

8. Frequency: Monthly.

9. Total Estimated Annual Time Burden: 403,212 hours.

10. Total Estimated Annual Other Costs Burden: $0.

If additional information is required, contact: Darwin Arceo, Department Clearance Officer, Enterprise Portfolio Management, Justice Management Division, United States Department of Justice, Two Constitution Square, 145 N Street NE, 4W-218, Washington, DC 20530.

Dated: February 12, 2026.
Darwin Arceo,
Department Clearance Officer for PRA, U.S. Department of Justice.

[FR Doc. 2026-03091 Filed 2-17-26; 8:45 am]

BILLING CODE 4410-02-P